DEPARTMENT OF ENERGY

Federal Energy Regulatory Commission

Combined Notice of Filings #1

Take notice that the Commission received the following electric rate filings:

Docket Numbers: ER18-2400-001.

Applicants: New York Independent System Operator, Inc.

Description: Compliance filing: NYISO amended compliance filing—uplift reporting Order No 844 to be effective 3/15/2019.

Filed Date: 11/15/18.

Accession Number: 20181115-5149.

Comments Due: 5 p.m. ET 12/6/18.

Docket Numbers: ER18-2449-001.

Applicants: Midcontinent Independent System Operator, Inc., ALLETE, Inc.

Description: Tariff Amendment: 2018-11-15_SA 3167 Enbridge-SWL&P FRA Substitute (Nemadji) to be effective 9/19/2018.

Filed Date: 11/15/18.

Accession Number: 20181115-5132.

Comments Due: 5 p.m. ET 12/6/18.

Docket Numbers: ER19-310-001.

Applicants: Midcontinent Independent System Operator, Inc.

Description: Tariff Amendment: 2018-11-15_SA 3200_Sholes Wind-MidAmerican Substitute Original FCA (C027) to be effective 10/25/2018.

Filed Date: 11/15/18.

Accession Number: 20181115-5164.

Comments Due: 5 p.m. ET 12/6/18.

Docket Numbers: ER19-341-000.

Applicants: Midcontinent Independent System Operator, Inc.

Description: § 205(d) Rate Filing: 2018-11-14_SA 1756 METC-Consumers Energy 12th Rev GIA (G479B) to be effective 11/1/2018.

Filed Date: 11/14/18.

Accession Number: 20181114-5127.

Comments Due: 5 p.m. ET 12/5/18.

Docket Numbers: ER19-342-000.

Applicants: Lancaster County Solid Waste Management Authority.

Description: Baseline eTariff Filing: Reactive Power Tariff Application to be effective 1/1/2019.

Filed Date: 11/14/18.

Accession Number: 20181114-5133.

Comments Due: 5 p.m. ET 12/5/18.

Docket Numbers: ER19-343-000.

Applicants: ISO New England Inc., New England Power Pool Participants Committee.

Description: § 205(d) Rate Filing: ISO-NE and NEPOOL; Updates to Assumptions Used in the ICR and Related Values to be effective 1/14/2019.

Filed Date: 11/15/18.

Accession Number: 20181115-5049.

Comments Due: 5 p.m. ET 12/6/18.

Docket Numbers: ER19-344-000.

Applicants: Georgia Power Company.

Description: § 205(d) Rate Filing: GPCo 2018 PBOP Filing to be effective 1/1/2018.

Filed Date: 11/15/18.

Accession Number: 20181115-5060.

Comments Due: 5 p.m. ET 12/6/18.

Docket Numbers: ER19-345-000.

Applicants: Mississippi Power Company.

Description: § 205(d) Rate Filing: PBOP 2018 Filing to be effective 1/1/2018.

Filed Date: 11/15/18.

Accession Number: 20181115-5066.

Comments Due: 5 p.m. ET 12/6/18.

Docket Numbers: ER19-346-000.

Applicants: Southern Electric Generating Company.

Description: § 205(d) Rate Filing: SEGCo 2018 PBOP Filing to be effective 1/1/2018.

Filed Date: 11/15/18.

Accession Number: 20181115-5067.

Comments Due: 5 p.m. ET 12/6/18.

Docket Numbers: ER19-347-000.

Applicants: Midcontinent Independent System Operator, Inc.

Description: § 205(d) Rate Filing: 2018-11-15_SA 3205 Clinton Wind-Duke Energy GIA (J446) to be effective 10/31/2018.

Filed Date: 11/15/18.

Accession Number: 20181115-5100.

Comments Due: 5 p.m. ET 12/6/18.

Docket Numbers: ER19-348-000.

Applicants: PJM Interconnection, L.L.C.

Description: § 205(d) Rate Filing: Amendment to 5 Service Agreements re: Transfer of parent company to Glidepath to be effective 7/13/2004.

Filed Date: 11/15/18.

Accession Number: 20181115-5146.

Comments Due: 5 p.m. ET 12/6/18.

Docket Numbers: ER19-349-000.

Applicants: Midcontinent Independent System Operator, Inc.

Description: § 205(d) Rate Filing: 2018-11-15_Termination of SA 2914 NSP-Ashtabula Wind IV FCA (C019) to be effective 12/1/2018.

Filed Date: 11/15/18.

Accession Number: 20181115-5150.

Comments Due: 5 p.m. ET 12/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2018.
Nathaniel J. Davis, Sr.,
Deputy Secretary.

[FR Doc. 2018-25371 Filed 11-20-18; 8:45 am]

BILLING CODE 6717-01-P